DEPARTMENT OF THE INTERIOR

Fish and Wildlife Service

Information Collection To Be Submitted to the Office of Management and Budget (OMB) for Approval Under the Paperwork Reduction Act; Division of International Conservation Requests for Proposals

AGENCY: Fish and Wildlife Service, Interior.

ACTION: Notice; request for comments.

SUMMARY: The U.S. Fish and Wildlife Service (We) will submit the collection of information described below to OMB for approval under the provisions of the Paperwork Reduction Act. An estimate of the information collection burden is included in this notice. If you wish to obtain copies of the proposed information collection requirement, related forms, and/or explanatory material, contact the Service Information Collection Clearance Officer at the address listed below.

DATES: You must submit comments on or before February 9, 2004.

ADDRESSES: Send your comments and suggestions on specific requirements to the Information Collection Clearance Officer, U.S. Fish and Wildlife Service, MS 222-ARLSQ, 4401 N. Fairfax Drive, Arlington, VA 22203.

FOR FURTHER INFORMATION CONTACT: To request a copy of the information collection submission, explanatory information, and/or related forms, contact Anissa Craghead, Information Collection Clearance Officer, at 703-358-2445 or electronically at Anissa_Craghead@fws.gov.

SUPPLEMENTARY INFORMATION: OMB regulations at 5 CFR 1320, which implement provisions of the Paperwork Reduction Act of 1995 (44 U.S.C. 3501 et seq.), require that interested members of the public and affected agencies be given an opportunity to comment on information collection and record keeping activities (see 5 CFR 1320.8(d)). We are submitting a request to OMB to approve: (1) The revision of the collection of information for four of our multinational species conservation grant fund requests for proposals (Form numbers 3-2214 through 3-2217), and (2) the addition of two new requests for proposals (Form numbers 3-2263 and 3-2264). We are requesting a three-year term of approval for this information collection activity. Federal agencies may not conduct or sponsor, and a person is not required to respond to, a collection of information unless it displays a currently valid OMB control number. The OMB control number for this collection of information is 1018-0123.

Revisions to the currently approved requests for proposals include updating application forms to: (1) Comply with new Government-wide policy directing all funding programs to request Dunn & Bradstreet registration from all applicants; (2) reformat to comply with new Government-wide policies prescribing a standard RFP format; (3) add additional instructions for applicants; (4) request from domestic applicants the submission of standard forms 424, 424a, 424b and DI 2010; and (5) reformat the application cover page form to fit on one page. In addition, two new requests for proposals have been added to the information collection in order to meet our obligations under the requirements of the Convention on Nature Protection and Wildlife Preservation in the Western Hemisphere. The two new requests for proposals and associated forms will be translated into Spanish for the convenience of our Latin American and Caribbean applicants. The new requests for proposals (forms 3-2263 and 3-2264) are noted in the table below. In addition, this information collection is currently titled, “Multinational Species Conservation Fund Requests for Proposals.” Due to the addition of two new requests for proposals that are not part of the Multinational Species Conservation Fund, we are proposing to change the title of this information collection to “Division of International Conservation Requests for Proposals.”

The information obtained from the first four requests for proposals listed below will be used to select conservation projects for grant funding in accordance with the criteria in several Acts of Congress. The Acts of Congress include the African Elephant Conservation Act, as amended (16 U.S.C. 4201-46), the Rhinoceros and Tiger Conservation Act, as amended (16 U.S.C. 5301-06), the Asian Elephant Conservation Act (16 U.S.C. 4261-4266), and the Great Ape Conservation Act (16 U.S.C. 6301-6305). The information obtained from the final two requests for proposals will be used to select conservation projects for grant funding in accordance with the U.S. Government's obligations under the Western Hemisphere Convention, and authorized by the Endangered Species Act of 1973, as amended (16 U.S.C. 1531-43). The following table lists the requests for proposals, with their respective burden estimates, that we plan to submit to OMB for approval under the Paperwork Reduction Act.

Name of request for proposals (RFP) | Form No. | Estimated time to complete | Total annual responses | Total annual burden hours
African Elephant Conservation Fund RFP | 3-2214 | 12 | 60 | 720
Rhinoceros and Tiger Conservation Fund RFP | 3-2215 | 12 | 70 | 840
Asian Elephant Conservation Fund RFP | 3-2216 | 12 | 50 | 600
Great Ape Conservation Fund RFP | 3-2217 | 12 | 60 | 720
Wildlife Without Borders-Mexico RFP * | 3-2263 | 12 | 40 | 480
Wildlife Without Borders-Latin America & the Caribbean RFP * | 3-2264 | 12 | 55 | 660
* Note: These are new information collections.

Title: Division of International Conservation Requests for Proposals.

OMB Number: 1018-0123.

Service Form Numbers: 3-2214 through 3-2217, 3-2263 and 2-2264.

Frequency of Collection: Annually.

Description of Respondents: Foreign governments; domestic and foreign non-governmental organizations and individuals.

Total Annual Responses: 335 responses.

Total Annual Burden Hours: 4,020 hours.

We invite comments concerning this collection on: (1) Whether the collection of information is necessary for the proper performance of the functions of the agency, including whether the information will have practical utility; (2) the accuracy of the agency's estimate of burden on the public; (3) ways to enhance the quality, utility and clarity of the information to be collected; and (4) ways to minimize the burden of the collection of information on those who are to respond.

Dated: November 21, 2003.
Anissa Craghead,
Information Collection Clearance Officer, Fish and Wildlife Service

[FR Doc. 03-30594 Filed 12-9-03; 8:45 am]

BILLING CODE 4310-55-P